NUCLEAR REGULATORY COMMISSION

10 CFR Parts 50, 52, and 54

[NRC-2024-0091]

RIN 3150-AL15

Miscellaneous Corrections

AGENCY: Nuclear Regulatory Commission.

ACTION: Final rule.

SUMMARY: The U.S. Nuclear Regulatory Commission (NRC) is amending its regulations to make miscellaneous corrections. These changes include clarifying language and correcting grammatical and typographical errors, punctuation, references, and terms. This document is necessary to inform the public of these non-substantive amendments to the NRC's regulations.

DATES: This final rule is effective on August 15, 2024.

ADDRESSES: Please refer to Docket ID NRC-2024-0091 when contacting the NRC about the availability of information for this action. You may obtain publicly available information related to this action by any of the following methods:

• Federal Rulemaking Website: Go to https://www.regulations.gov and search for Docket ID NRC-2024-0091. Address questions about NRC dockets to Dawn Forder; telephone: 301-415-3407; email: Dawn.Forder@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to pdr.resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Tricia Lizama, Office of Nuclear Material Safety and Safeguards, U.S. Nuclear Regulatory Commission, Washington, DC 20555-0001; telephone: 301-415-4110; email: TriciaDolores.Lizama@nrc.gov.

SUPPLEMENTARY INFORMATION:

I. Introduction

The NRC is amending its regulations in parts 50, 52, and 54 of title 10 of the Code of Federal Regulations (10 CFR). The NRC is making these amendments to clarify language and correct grammatical and typographical errors, punctuation, references, and terms.

10 CFR Parts 50 and 54

Correct Grammatical Errors. This final rule revises § 50.10(e)(1)(iii) to remove periods and adjust capitalization to reflect that this paragraph contains a continuous list of items required for issuance of a limited work authorization.

Remove Outdated Term. This final rule revises § 50.30(d) to remove references to “an amendment to an application for a license to construct and operate a production or utilization facility” as this appears to be an outdated license application type (i.e., a forerunner to the current combined license).

Correct Term. This final rule amends § 50.33(j) and § 54.17(f) by removing the undefined term “other defense information.” The term dates to an Atomic Energy Commission (AEC) amendment of this section on January 19, 1956 (21 FR 355, 357) and was not changed with the promulgation of 10 CFR part 95 (45 FR 14476; March 5, 1980) after the establishment of the NRC and the 1975 reissuance of the former AEC regulations. This final rule replaces the outdated term with the term “classified National Security Information,” for consistency with other use of this term in parts 50 and 54.

Clarify Language and Correct Punctuation. This final rule revises the first sentence of § 50.36b(b) to clarify the potential for removal of the authority to operate the reactor when a final, legally effective order to permanently cease operations comes into effect under § 50.82(a)(1) or § 52.110(a). This final rule also revises the second sentence to add a comma before the word “which.”

Correct Grammatical and Typographical Errors. This final rule revises the introductory text of § 50.43(e) to replace the word “which” with the word “that,” and to replace a period with a comma and adjust capitalization to eliminate two incomplete sentences.

Clarify Language. This final rule revises § 50.55(e)(2)(i) to clarify the scope of license holders that are subject to this regulation (i.e., the regulations are only applicable to holders of a construction permit, combined license, or a manufacturing license and not all licensees subject to the regulations in 10 CFR part 50). This final rule also clarifies the introductory text of paragraph (e)(3)(iii) and paragraph (e)(4)(ii) by adding “or manufactured reactor” because the § 21.3 definition of “basic component” does not appear to be broad enough to include the term. Finally, this final rule updates the initial notification requirements in paragraph (e)(5)(i) to reflect that emails are also a permissible initial notification method in addition to facsimile and phone notification options.

This final rule amends § 50.59(c)(1)(i) by replacing the phrase “A change” with “An amendment” to avoid using the defined term “change” that is used elsewhere in this section.

Correct References and Grammatical Error. This final rule revises § 50.82(a) by adding the actual effective date of the Decommissioning of Nuclear Power Reactors final rule in paragraph (a)(1)(iii), removing the incorrect reference to § 50.2 in the introductory text to paragraph (a)(6), and correcting the placement of the semicolon at the end of paragraph (a)(8)(i)(B).

Correct Reference. This final rule amends § 50.100 to change the reference to § 50.42(a) to instead reference § 50.42. The provisions in § 50.42(a) were moved to § 50.42 by 73 FR 44619, July 31, 2008 and the reference to § 50.42(a) is no longer valid.

Correct Typographical Error. This final rule amends § 50.109(a)(4) by correcting “appropriated documented evaluation” to read “appropriate documented evaluation.”

10 CFR Parts 50 and 52

Clarify Language and Correct Punctuation. This final rule amends § 50.37 by adding the word “or” and commas, and § 52.54(c) by adding commas, to correct drafting errors and ensure parallel language. The preamble for the rulemaking that modified the parallel language in 10 CFR parts 50 and 52, Licenses, Certifications, and Approvals for Nuclear Power Plants, provides a discussion on the intended language for these sections (72 FR 49352; August 28, 2007).

10 CFR Part 52

Clarify Language. This final rule amends § 52.26(b) by adding the words “early site” to the phrase “if a timely application for renewal of the permit has been docketed” to clarify that the term “permit” refers to the early site permit and not to the construction permit for which an application was submitted.

This final rule revises the introductory text of § 52.31(a) to clarify that it is a criterion for renewal and § 52.31(b) to reflect that the provisions in § 52.31(a) are applicable to the Commission and not to the applicant for renewal of an early site permit.

This final rule amends § 52.39(c) by removing the word “should” to improve the clarity of the paragraph and § 52.39(e) by replacing the word “including” with the word “or” to clarify the relationship between the early site permit and the site safety analysis report.

Correct Reference. This final rule revises the reference in § 52.91(b) to clarify that the sole activities permitted under paragraph (a) of this section are the submittal of an application for a limited work authorization under § 50.10.

Correct Grammatical Error. This final rule amends § 52.103(b)(2) by removing the word “that,” which is already included in the introductory text of paragraph (b).

Remove References and Correct Punctuation. This final rule amends § 52.110(e) to remove the incorrect reference to § 50.2 and the introductory text of § 52.110(f) to remove the incorrect reference to § 52.1, since neither reference contains a definition for “decommissioning activities.” This final rule also amends § 52.110(h)(1)(ii) to correct the placement of the semicolon.

Correct Punctuation. This final rule amends § 52.158(a)(1)(i) to replace the semicolon after “manufacturing license” with a comma.

Correct Term. This final rule amends § 52.177(d) by removing the term “permit” and adding the term “license” to reflect that a manufacturing license is considered a license in accordance with the definitions in § 52.1.

II. Rulemaking Procedure

Under section 553(b) of the Administrative Procedure Act (5 U.S.C.553(b)), an agency may waive publication in the Federal Register of a notice of proposed rulemaking and opportunity for comment requirements if it finds, for good cause, that it is impracticable, unnecessary, or contrary to the public interest. As authorized by 5 U.S.C. 553(b)(3)(B), the NRC finds good cause to waive notice and opportunity for comment on these amendments, because notice and opportunity for comment is unnecessary. The amendments will have no substantive impact and are of a minor and administrative nature dealing with corrections to certain CFR sections or are related only to management, organization, procedure, and practice. Specifically, the revisions clarify language and correct grammatical and typographical errors, punctuation, references, and terms. The Commission is exercising its authority under 5 U.S.C. 553(b) to publish these amendments as a final rule. The amendments are effective August 15, 2024. These amendments do not require action by any person or entity regulated by the NRC and do not change the substantive responsibilities of any person or entity regulated by the NRC.

III. Backfitting and Issue Finality

The NRC has determined that the corrections in this final rule would not constitute backfitting as defined in § 50.109, “Backfitting,” and as described in NRC Management Directive (MD) 8.4, “Management of Backfitting, Forward Fitting, Issue Finality, and Information Requests.” These corrections also would not constitute forward fitting as that term is defined and described in MD 8.4 or affect the issue finality of any approval issued under 10 CFR part 52. The amendments are non-substantive in nature, including clarifying language and correcting grammatical and typographical errors, punctuation, references, and terms. They impose no new requirements and make no substantive changes to the regulations. The corrections do not involve any provisions that would impose backfits as defined in 10 CFR chapter I, or that would be inconsistent with the issue finality provisions in 10 CFR part 52. For these reasons, the issuance of this final rule would not constitute backfitting or be inconsistent with any of the issue finality provisions in 10 CFR part 52. Therefore, the NRC has not prepared any additional documentation for this correction rulemaking addressing backfitting or issue finality.

IV. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31885).

V. National Environmental Policy Act

The NRC has determined that this final rule is the type of action described in § 51.22(c)(2), which categorically excludes from environmental review rules that are corrective or of a minor, nonpolicy nature and do not substantially modify existing regulations. Therefore, neither an environmental impact statement nor an environmental assessment has been prepared for this rule.

VI. Paperwork Reduction Act

This final rule does not contain a collection of information as defined in the Paperwork Reduction Act of 1995 (44 U.S.C. 3501 et seq.) and, therefore, is not subject to the requirements of the Paperwork Reduction Act of 1995.

VII. Congressional Review Act

This final rule is not a rule as defined in the Congressional Review Act (5 U.S.C. 801-808).

List of Subjects

10 CFR Part 50

Administrative practice and procedure, Antitrust, Backfitting, Classified information, Criminal penalties, Education, Emergency planning, Fire prevention, Fire protection, Intergovernmental relations, Nuclear power plants and reactors, Penalties, Radiation protection, Reactor siting criteria, Reporting and recordkeeping requirements, Whistleblowing.

10 CFR Part 52

Administrative practice and procedure, Antitrust, Combined license, Early site permit, Emergency planning, Fees, Inspection, Issue finality, Limited work authorization, Manufacturing license, Nuclear power plants and reactors, Probabilistic risk assessment, Prototype, Reactor siting criteria, Redress of site, Penalties, Reporting and recordkeeping requirements, Standard design, Standard design certification.

10 CFR Part 54

Administrative practice and procedure, Age-related degradation, Backfitting, Classified information, Criminal penalties, Environmental protection, Nuclear power plants and reactors, Penalties, Radiation protection, Reporting and recordkeeping requirements.

For the reasons set out in the preamble and under the authority of the Atomic Energy Act of 1954, as amended; the Energy Reorganization Act of 1974, as amended; and 5 U.S.C. 552 and 553, the NRC is adopting the following amendments to 10 CFR parts 50, 52, and 54:

PART 50—DOMESTIC LICENSING OF PRODUCTION AND UTILIZATION FACILITIES

1. The authority citation for part 50 continues to read as follows:

Authority: Atomic Energy Act of 1954, secs. 11, 101, 102, 103, 104, 105, 108, 122, 147, 149, 161, 181, 182, 183, 184, 185, 186, 187, 189, 223, 234 (42 U.S.C. 2014, 2131, 2132, 2133, 2134, 2135, 2138, 2152, 2167, 2169, 2201, 2231, 2232, 2233, 2234, 2235, 2236, 2237, 2239, 2273, 2282); Energy Reorganization Act of 1974, secs. 201, 202, 206, 211 (42 U.S.C. 5841, 5842, 5846, 5851); Nuclear Waste Policy Act of 1982, sec. 306 (42 U.S.C. 10226); National Environmental Policy Act of 1969 (42 U.S.C. 4332); 44 U.S.C. 3504 note; Sec. 109, Pub. L. 96-295, 94 Stat. 783.

2. In § 50.10, revise paragraph (e)(1)(iii) to read as follows:

§ 50.10 License required; limited work authorization.

* * * * *

(e) * * *

(1) * * *

(iii) The Director determines that the applicable standards and requirements of the Act, and the Commission's regulations applicable to the activities to be conducted under the limited work authorization, have been met; the applicant is technically qualified to engage in the activities authorized; and issuance of the limited work authorization will provide reasonable assurance of adequate protection to public health and safety and will not be inimical to the common defense and security; and

* * * * *

3. In § 50.30, revise paragraph (d) to read as follows:

§ 50.30 Filing of application; oath or affirmation.

* * * * *

(d) Application for operating licenses. The holder of a construction permit for a production or utilization facility shall, at the time of submission of the final safety analysis report, file an application for an operating license. The application shall state the name of the applicant, the name, location and power level, if any, of the facility and the time when the facility is expected to be ready for operation and may incorporate by reference any pertinent information submitted in accordance with § 50.33 with the application for a construction permit.

* * * * *

§ 50.33 [Amended]

4. In § 50.33, amend paragraph (j) by removing the term “other defense information” wherever it appears and adding in its place the term “classified National Security Information”.

5. In § 50.36b, revise and republish paragraph (b) to read as follows:

§ 50.36b Environmental conditions.

* * * * *

(b) Each license authorizing operation of a production or utilization facility, including a combined license under part 52 of this chapter, and each license for a nuclear power reactor facility that no longer authorizes operation of the reactor under § 50.82(a)(1) or § 52.110(a) of this chapter has been submitted, which is of a type described in § 50.21(b)(2) or (3) or § 50.22 or is a testing facility, may include conditions to protect the environment during operation and decommissioning. These conditions are to be set out in an attachment to the license, which is incorporated in and made a part of the license. These conditions will be derived from information contained in the environmental report or the supplement to the environmental report submitted pursuant to §§ 51.50 and 51.53 of this chapter as analyzed and evaluated in the NRC record of decision, and will identify the obligations of the licensee in the environmental area, including, as appropriate, requirements for reporting and keeping records of environmental data, and any conditions and monitoring requirement for the protection of the nonaquatic environment.

6. Revise and republish § 50.37 to read as follows:

§ 50.37 Agreement limiting access to Classified Information.

As part of its application and in any event before the receipt of Restricted Data or classified National Security Information or the issuance of a license, construction permit, early site permit, or standard design approval, or before the Commission has adopted a final standard design certification rule under part 52 of this chapter, the applicant shall agree in writing that it will not permit any individual to have access to, or any facility to possess, Restricted Data or classified National Security Information until the individual and/or facility has been approved for access under the provisions of 10 CFR parts 25 and/or 95. The agreement of the applicant becomes part of the license, or construction permit, or standard design approval.

7. In § 50.43, revise paragraph (e) introductory text to read as follows:

§ 50.43 Additional standards and provisions affecting class 103 licenses and certifications for commercial power.

* * * * *

(e) Applications for a design certification, combined license, manufacturing license, operating license or standard design approval that propose nuclear reactor designs that differ significantly from light-water reactor designs that were licensed before 1997, or use simplified, inherent, passive, or other innovative means to accomplish their safety functions will be approved only if:

* * * * *

8. In § 50.55, revise and republish paragraphs (e)(2)(i), (3)(iii) introductory text, (4)(ii), and (5)(i) to read as follows:

§ 50.55 Conditions of construction permits, early site permits, combined licenses, and manufacturing licenses.

* * * * *

(e) * * *

(2) * * *

(i) Each individual, partnership, corporation, dedicating entity, or other entity subject to the regulations in this part (i.e., holders of a construction permit, combined license, or a manufacturing license) must post current copies of the regulations in this part, Section 206 of the Energy Reorganization Act of 1974 (ERA), and procedures adopted under the regulations in this part. These documents must be posted in a conspicuous position on any premises within the United States where the activities subject to this part are conducted.

* * * * *

(3) * * *

(iii) Ensure that a director or responsible officer of the holder of a facility construction permit subject to this part, combined license (until the Commission makes the finding under 10 CFR 52.103(g)), and manufacturing license under 10 CFR part 52 is informed as soon as practicable, and, in all cases, within the 5 working days after completion of the evaluation described in paragraph (e)(3)(i) or (e)(3)(ii) of this section, if the construction or manufacture of a facility or activity or manufactured reactor, or a basic component supplied for such facility or activity—

* * * * *

(4) * * *

(ii) The holder of a facility construction permit subject to this part, combined license, or manufacturing license, who obtains information reasonably indicating the existence of any defect found in the construction or manufacture, or any defect found in the final design of a facility or manufactured reactor as approved and released for construction or manufacture, must notify the Commission of the defect through a director or responsible officer or designated person as discussed in paragraph (e)(4)(v) of this section.

* * * * *

(5) * * *

(i) Initial notification by email, which is the preferred method of notification, or facsimile to the NRC Operations Center at (301) 816-5151 or by telephone at

(301) 816-5100 within 2 days following receipt of information by the director or responsible corporate officer under paragraph (e)(3)(iii) of this section, on the identification of a defect or a failure to comply. Verification that the email or facsimile has been received should be made by calling the NRC Operations Center. This paragraph does not apply to interim reports described in paragraph (e)(3)(ii) of this section.

* * * * *

§ 50.59 [Amended]

9. In § 50.59, amend paragraph (c)(1)(i) by removing the text “A change” and adding in its place the text “An amendment”.

10. In § 50.82, revise and republish paragraphs (a)(1), (6), and (8)(i) to read as follows:

§ 50.82 Termination of license.

* * * * *

(a) * * *

(1)(i) When a licensee has determined to permanently cease operations the licensee shall, within 30 days, submit a written certification to the NRC, consistent with the requirements of § 50.4(b)(8);

(ii) Once fuel has been permanently removed from the reactor vessel, the licensee shall submit a written certification to the NRC that meets the requirements of § 50.4(b)(9); and

(iii) For licensees whose licenses have been permanently modified to allow possession but not operation of the facility, before August 28, 1996, the certifications required in paragraphs (a)(1)(i) through (ii) of this section shall be deemed to have been submitted.

* * * * *

(6) Licensees shall not perform any decommissioning activities that—

(i) Foreclose release of the site for possible unrestricted use;

(ii) Result in significant environmental impacts not previously reviewed; or

(iii) Result in there no longer being reasonable assurance that adequate funds will be available for decommissioning.

* * * * *

(8)(i) Decommissioning trust funds may be used by licensees if—

(A) The withdrawals are for expenses for legitimate decommissioning activities consistent with the definition of decommissioning in § 50.2;

(B) The expenditure would not reduce the value of the decommissioning trust below an amount necessary to place and maintain the reactor in a safe storage condition if unforeseen conditions or expenses arise; and

(C) The withdrawals would not inhibit the ability of the licensee to complete funding of any shortfalls in the decommissioning trust needed to ensure the availability of funds to ultimately release the site and terminate the license.

* * * * *

§ 50.100 [Amended]

11. In § 50.100, remove the reference “§ 50.42(a)” and add in its place the reference “§ 50.42”.

§ 50.109 [Amended]

12. In § 50.109, amend paragraph (a)(4) introductory text by removing the text “appropriated documented evaluation” and adding in its place the text “appropriate documented evaluation”.

PART 52—LICENSES, CERTIFICATIONS, AND APPROVALS FOR NUCLEAR POWER PLANTS

13. The authority citation for part 52 continues to read as follows:

Authority: Atomic Energy Act of 1954, secs. 103, 104, 147, 149, 161, 181, 182, 183, 185, 186, 189, 223, 234 (42 U.S.C. 2133, 2134, 2167, 2169, 2201, 2231, 2232, 2233, 2235, 2236, 2239, 2273, 2282); Energy Reorganization Act of 1974, secs. 201, 202, 206, 211 (42 U.S.C. 5841, 5842, 5846, 5851); 44 U.S.C. 3504 note.

§ 52.26 [Amended]

14. In § 52.26, amend paragraph (b) by removing the phrase “if a timely application for renewal of the permit has been docketed” and adding in its place the phrase “if a timely application for renewal of the early site permit has been docketed”.

15. Revise and republish § 52.31 to read as follows:

§ 52.31 Criteria for renewal.

(a) The Commission shall grant the renewal only if it determines that:

(1) The site complies with the Act, the Commission's regulations, and orders applicable and in effect at the time the site permit was originally issued; and

(2) Any new requirements the Commission may wish to impose are:

(i) Necessary for adequate protection to public health and safety or common defense and security;

(ii) Necessary for compliance with the Commission's regulations, and orders applicable and in effect at the time the site permit was originally issued; or

(iii) A substantial increase in overall protection of the public health and safety or the common defense and security to be derived from the new requirements, and the direct and indirect costs of implementation of those requirements are justified in view of this increased protection.

(b) A denial of renewal under the provisions of § 52.31(a) does not bar the permit holder or another applicant from filing a new application for the site which proposes changes to the site or the way that it is used to correct the deficiencies cited in the denial of the renewal.

16. In § 52.39, revise and republish paragraphs (c)(2) and (e) to read as follows:

§ 52.39 Finality of early site permit determinations.

* * * * *

(c) * * *

(2) Any person may file a petition requesting that the site characteristics, design parameters, or terms and conditions of the early site permit be modified, or that the permit be suspended or revoked. The petition will be considered in accordance with § 2.206 of this chapter. Before construction commences, the Commission shall consider the petition and determine whether any immediate action is required. If the petition is granted, an appropriate order will be issued. Construction under the construction permit or combined license will not be affected by the granting of the petition unless the order is made immediately effective. Any change required by the Commission in response to the petition must meet the requirements of paragraph (a)(1) of this section.

* * * * *

(e) Early site permit amendment. The holder of an early site permit may not make changes to the early site permit, or the site safety analysis report, without prior Commission approval. The request for a change to the early site permit must be in the form of an application for a license amendment and must meet the requirements of 10 CFR 50.90 and 50.92.

* * * * *

17. In § 52.54, revise and republish paragraph (c) to read as follows:

§ 52.54 Issuance of standard design certification.

* * * * *

(c) After the Commission has adopted a final design certification rule, the applicant shall not permit any individual to have access to, or any facility to possess, Restricted Data or classified National Security Information until the individual and/or facility has been approved for access under the provisions of 10 CFR parts 25 and/or 95, as applicable.

§ 52.91 [Amended]

18. In § 52.91, amend paragraph (b) by removing the text “paragraph (a) of this section” and adding in its place the text “a limited work authorization issued under § 50.10 of this chapter”.

§ 52.103 [Amended]

19. In § 52.103, amend paragraph (b)(2) by removing the word “that”.

20. In § 52.110, revise and republish paragraphs (e), (f), and (h)(1) to read as follows:

§ 52.110 Termination of license.

* * * * *

(e) Licensees shall not perform any major decommissioning activities until 90 days after the NRC has received the licensee's PSDAR submittal and until certifications of permanent cessation of operations and permanent removal of fuel from the reactor vessel, as required under § 52.110(a)(1), have been submitted.

(f) Licensees shall not perform any decommissioning activities, that—

(1) Foreclose release of the site for possible unrestricted use;

(2) Result in significant environmental impacts not previously reviewed; or

(3) Result in there no longer being reasonable assurance that adequate funds will be available for decommissioning.

* * * * *

(h)(1) Decommissioning trust funds may be used by licensees if—

(i) The withdrawals are for expenses for legitimate decommissioning activities consistent with the definition of decommissioning in § 52.1;

(ii) The expenditure would not reduce the value of the decommissioning trust below an amount necessary to place and maintain the reactor in a safe storage condition if unforeseen conditions or expenses arise; and

(iii) The withdrawals would not inhibit the ability of the licensee to complete funding of any shortfalls in the decommissioning trust needed to ensure the availability of funds to ultimately release the site and terminate the license.

* * * * *

21. In § 52.158, revise and republish paragraph (a)(1)(i) to read as follows:

§ 52.158 Contents of application; additional technical information.

* * * * *

(a)(1) Inspections, tests, analyses, and acceptance criteria (ITAAC). The proposed inspections, tests, and analyses that the licensee who will be operating the reactor shall perform, and the acceptance criteria that are necessary and sufficient to provide reasonable assurance that, if the inspections, tests, and analyses are performed and the acceptance criteria met:

(i) The reactor has been manufactured in conformity with the manufacturing license, the provisions of the Act, and the Commission's rules and regulations; and

(ii) The manufactured reactor will be operated in conformity with the approved design and any license authorizing operation of the manufactured reactor.

* * * * *

§ 52.177 [Amended]

22. In § 52.177, amend paragraph (d) by removing the term “permit” and adding in its place the term “license”.

PART 54—REQUIREMENTS FOR RENEWAL OF OPERATING LICENSES FOR NUCLEAR POWER PLANTS

23. The authority citation for part 54 continues to read as follows:

Authority: Atomic Energy Act of 1954, secs. 102, 103, 104, 161, 181, 182, 183, 186, 189, 223, 234 (42 U.S.C. 2132, 2133, 2134, 2136, 2137, 2201, 2231, 2232, 2233, 2236, 2239, 2273, 2282); Energy Reorganization Act of 1974, secs. 201, 202, 206 (42 U.S.C. 5841, 5842, 5846); 44 U.S.C. 3504 note.

Section 54.17 also issued under E.O. 12829, 58 FR 3479, 3 CFR, 1993 Comp., p. 570; E.O. 13526, 75 FR 707, 3 CFR, 2009 Comp., p. 298; E.O. 12968, 60 FR 40245, 3 CFR, 1995 Comp., p. 391.

§ 54.17 [Amended]

24. In § 54.17, amend paragraph (f) by removing the term “other defense information” wherever it appears and adding in its place the term “classified National Security Information”.

Dated: July 8, 2024.
For the Nuclear Regulatory Commission.
Cindy K. Bladey,
Chief, Regulatory Analysis and Rulemaking Support Branch, Division of Rulemaking, Environmental, and Financial Support, Office of Nuclear Material Safety and Safeguards.

[FR Doc. 2024-15234 Filed 7-15-24; 8:45 am]

BILLING CODE 7590-01-P